ENVIRONMENTAL PROTECTION AGENCY

[FRL-7938-8]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), the EPA and the State of California's Department of Toxic Substances Control (DTSC), Regional Water Quality Control Board (Regional Board) and Department of Fish and Game (DFG) (jointly referred to as the State Regulatory Entities), are hereby providing notice of a proposed administrative de minimis settlement concerning the Casmalia Disposal Site in Santa Barbara County, California (the Casmalia Disposal Site). Section 122(g) of CERCLA provides EPA with the authority to enter into administrative de minimis settlements. This settlement is intended to resolve the liabilities of 257 settling parties for the Casmalia Disposal Site under sections 106 and 107 of CERCLA and section 7003 of RCRA. These parties are identified below. Some have elected to resolve their liability with the EPA, some with the State Regulatory Entities, and some with both. Most of those resolving their liability to the EPA have also elected to resolve their liability for response costs and potential natural resource damage claims by the United States Fish and Wildlife Service (USFWS) and the National Oceanic and Atmospheric Administration (NOAA). The settling parties sent 49,991,889 lbs. of waste to the Site, which represents 0.089% of total Site waste. These parties will pay over $4.3 million to EPA. EPA is simultaneously publishing another Federal Register Notice relating to another settlement with de minimis parties that had received offers prior to the group of parties listed in this Notice.

Settling Parties: Parties that have elected to settle their liability at this time are as follows: ABC Unified School District, AC Transit, Acme Printing Ink Company, Acromil Corporation, Aerocraft Heat Treating Company, Allied Steel Company, Inc, Amberwick Corporation, American Fence Company, American Metal Bearing Company, Ampex Corporation, Anillo Industries, Inc., Apache Plastics, Arcadia Inc., Arlen J. Richman and Emily J. Richman, Armored Transport Inc., Arvin Industries, Astro Seal, Bakertanks Inc., Behr Process Corporation, Bell Industries, Benco Sales, Benmatt Industries, BMW of North America, Bourns, Inc., Bristol Industries, Bryan's Cleaners and Laundry, Builders Fence Company, Burke Industries, C & H Development, CACO Pacific Corporation, Cal Coast Acidizing Svc., California Domestic Water, California Institute of the Arts, California Oils Corporation, Campbells Soup Company, Carlin Foods, Carpenter Technology Corporation, CB Richard Ellis, C-Brite Metal Finishing, Central Chevrolet, Century Wire & Cable, Cerro Metal Products, Certified Enameling, Chief Auto Parts, Cintas Corporation, City of Anaheim, City of Corona, City of Hayward, City Of Orange, City of Santa Clara, City of Santa Rosa, City of Upland, Clayton Industries, Clean Seas, Coast Plating, Colonial Engineering, Comstock Crosser & Associates Development Company, Connell Processing Inc., Continental Acrylics, Continental Pacific Bank/Bank of the West, Contra Costa Water District, Coronet Manufacturing, Cor-Ray Painting Company, County of Fresno, County of San Mateo, Court Galvanizing, Inc., Crockett Container Corporation, D.W. Cruiso Jr.,/R.W. Poole, DAH Incorporated, Deft Inc., Del Monte Foods, Dewey Pest Control, Dickson Testing Co., Donrey Media Group, Dover Corporation, Drackett, Inc., Dunkel Brothers Trucking, Easton Sports, Eberhard Roofing, Ecodyne Corporation, Econolite Control Products Inc., Eemus Manufacturing, Esterline Technologies, Excal Inc., Fillmore Piru Citrus Association, Fipp Investments, Fisher Development, Fitzgerald Trucking/Fitzgerald Property, Fleet Services Inc., Flint Ink Corporation, Foothill Beverage Company, Fortifiber Corporation, Foster Farms, Gannett Co., Inc., Gans Ink & Supply, Gardenia Foods Company, Inc., General Magnaplate, Good Samaritan Hospital, Great Western Carpet Cushion, Grindley Manufacturing, Griswold Industries, Inc., Grossmont Union High School, GWF Power Manufacturing Systems LP, Gwynn Chevrolet, H.B. Fuller Company, H.F. Cox Petroleum Transportation, Hallmark Circuits, Hampton Farming Company, Handcraft Tile, Harris Corporation, Hartwell Corporation, Hawker Pacific Aerospace, Henry Wong & Tom Pon, Heublein Inc., Hexcel, Hill Brothers Chemical Company, Home Depot, Home Motors, Howard Petersen, Huntington Beach Unified School District, Hyatt Die Cast & Engineering, Illinois Tool Works, Indasco, Inc., Industrial Property Management, Ink Systems Inc., Integrated Device Technology, International Carbonics, International Electronic Research Corporation, Irvine Company, J.C. Carter Company, Jaco Oil Company, Jeffries Bank Notes, Johanson Dialectrics, John H. Harland Company, Johnson & Johnson, Johnson And Turner Painting Company, Jorco Chemical Co., Kal Kan Foods, Kaufman & Broad Homes Corporation, Kaynar Technologies, Kemira Chemicals, Inc., Keystone Shipping Company, Kimberly-Clark Corporation, KOH Atlas Corporation, L3 Communication Corporation, LeFiell Manufacturing, Leviton Manufacturing Company, Lithotype Company, Inc., Lost Arrow Corporation, Lucky Stores, Inc., Lustre Cal Nameplate, Magellan Aerospace, Malcolite Corporation, Marcel Electronics, Master Builders, McGean Rohco, Mentor Corporation, Mercury Services, Metropolitan Water District of Southern California, Micro Matic USA, Inc., Micro Metals, Midway Drilling, Miller Castings Company, Mills Iron Works, Modesto Irrigation District, Monterey Mushrooms, Inc., Multek Inc., Multichrome Company, Murco Development, Nabisco, Inc., Newman & Sons, North American Chemical Co., Nu-Metal Finishing Inc., Oakland Acura, Ohio Casualty Insurance Company, Ohmega Technologies, Orange Line Oil Company, Pacific Coast Building Products, Pacific Coast Producers, Pacific Radiatior Service, Pacifica Real Estate Group, Paktank Corporation, Richmond Terminal, Pamarco Pacific, Parco Inc., Pavement Specialists Inc., Pentair Enclosures Group, Peyton Cramer Ford Isuzu, Phylrich International, Pioneer Roofing & Tile, Plan Hold Corporation, Plant Insulation Company, Plato Products, Power-One Inc., Precision Metal Products, Ralph's Grocery Company, Rector Motor Car Company, Reliable Lumber, Inc., Remo Company, Ricoh Electronics, Robertson-Ceco Corporation, Rollins Inc. (aka Orkin Pest Control), Sacramento Housing And Redevelopment Agency, Safe Plating Company, Salk Institute for Biological Studies, San Diego School District, Santa Barbara Cottage Hospital, Santa Maria Public Airport District, Santee Dairies, Saticoy Country Club, Schlosser Forge, Sealed Air Corporation, Selman Chevrolet, SGL Technic, Inc., Shea Homes, Size Control Plating Co., Inc., Spectra-Tone Paint Corporation, SummerHill Homes, Sunny Distributors, Surface Protection Industries, Sutter Health, Swedlow Inc., Systron Donner, Tech-Etch Inc., Techni-Cast Corporation, The Flood Company, The Pervo Paint Company, The Stanley Works, Thorco Industries, Toppan Electronics, Twenieth Century Fox Film Corporation, U.S. Prefinished Metals, Unifirst Corporation, Union Bank of California, Union Tank Car Company, Universal Alloy, Universal Studios, Inc., U.S. Rentals, Utility Trailer Manufacturing, Valley Brass Foundry, Valley Todeco, Vancon Construction, VANS Inc. f/k/a Van Doren Rubber Company, Ventura Coastal Corporation, Ventura Regional Sanitation District, Vernon Leather Company, Viacom Inc., Village Car Wash, Volkswagen of North America, Wacker Corporation, Wakefield Thermal Solutions, Waller, Robert A., Wedgstone Automotive, West Contra Costa County Sanitary Landfill, Western Boat Operators, Western Oilfields Supply, Wynn International, Yellow Freight Lines.

DATES: EPA and the State Regulatory Entities will receive written comments relating to the settlement until August 26, 2005. The EPA and State Regulatory Entities will consider all comments they receive during this period, and may modify or withdraw consent to the settlement if any comments disclose facts or considerations indicating that the settlement is inappropriate, improper, or inadequate.

Public Meeting: In accordance with section 7003(d) of RCRA, the EPA has scheduled a public meeting in the affected area to discuss this settlement. Information about the date and time of the meeting will be published in the local newspaper, The Santa Maria Times, and will be sent to persons on the EPA's Casmalia Site mailing list. To be added to the mailing list, please contact David Cooper at (415) 972-3237 or by e-mail at cooper.david@epa.gov. The information on the public meeting will also be available by calling (415) 369-0559.

ADDRESSES: Written comments should be addressed to Karen Goldberg, U.S. Environmental Protection Agency Region IX, 75 Hawthorne Street (mail code RC-3), San Francisco, California 94105-3901, or may be faxed to her at (415) 947-3570 or sent by e-mail to goldberg.karen@epa.gov. A copy of the comments should be sent to: Caroline Rudolph, Project Coordinator, DTSC, P.O. Box 806, Sacramento, California 95812-0806.

FOR FURTHER INFORMATION CONTACT: Additional information about the Casmalia Disposal Site and about the proposed settlement may be obtained on the Casmalia Web site at: http://yosemite.epa.gov/r9/sfund/overview.nsf or by calling Karen Goldberg at (415) 972-3951, who will direct any questions relating to the State Regulatory Entities to the appropriate State officials.

Dated: July 8, 2005.
Elizabeth J. Adams,
Acting Director, Superfund Division, U.S. EPA Region IX.

[FR Doc. 05-13983 Filed 7-14-05; 8:45 am]

BILLING CODE 6560-50-P